DEPARTMENT OF TRANSPORTATION

Federal Aviation Administration

14 CFR Part 39

[Docket No. FAA-2009-0615; Directorate Identifier 2009-NM-043-AD]

RIN 2120-AA64

Airworthiness Directives; Airbus Model A310-203, -221, -222 Airplanes and Model A300 F4-605R and -622R Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

An A300-600 operator reported two events of IPECO pilot seat moved in the aft position, one during take-off roll and one during climb out. The investigation of these events showed that a broken/missing spring contributed to the seat not being correctly locked.

An unwanted movement of pilot or co-pilot seat in the aft direction is considered as potentially dangerous, especially during the take-off phase when the speed of the aeroplane is greater than 100 knots and until landing gear retraction.

* * * * *

The unsafe condition is potential loss of control of the airplane during take-off and landing. The proposed AD would require actions that are intended to address the unsafe condition described in the MCAI.

DATES: We must receive comments on this proposed AD by August 17, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2009-0615; Directorate Identifier 2009-NM-043-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0045, dated February 27, 2009 (referred to after this as “the MCAI”), to correct an unsafe condition for the specified products. The MCAI states:

An A300-600 operator reported two events of IPECO pilot seat moved in the aft position, one during take-off roll and one during climb out. The investigation of these events showed that a broken/missing spring contributed to the seat not being correctly locked.

An unwanted movement of pilot or co-pilot seat in the aft direction is considered as potentially dangerous, especially during the take-off phase when the speed of the aeroplane is greater than 100 knots and until landing gear retraction.

To prevent further incidents of inadvertent flight crew seat aft movement, this AD requires repetitive inspections of the affected seat springs and replacement of missing or broken parts. In addition, this AD requires replacement of the affected seats with modified P/N 3A218-000X-01-2 seats. Installation of both pilot and co-pilot seats P/N 3A218-000X-01-2 on an aeroplane constitutes terminating action for the repetitive inspection requirements of this AD for that aeroplane.

The unsafe condition is potential loss of control of the airplane during take-off and landing. You may obtain further information by examining the MCAI in the AD docket.

Relevant Service Information

Airbus has issued Mandatory Service Bulletins A300-25A6210 and A310-25A2199, both dated July 9, 2008; and A300-25-6214 and A310-25-2202, both dated February 3, 2009. Airbus has also issued A300-600 Operations Engineering Bulletin 121/1, dated May 2008; and A300 Operations Engineering Bulletin 160/2, dated October 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 132 products of U.S. registry. We also estimate that it would take about 11 work-hours per product to comply with the basic requirements of this proposed AD. The average labor rate is $80 per work-hour. Required parts would cost about $1,214 per product. Where the service information lists required parts costs that are covered under warranty, we have assumed that there will be no charge for these costs. As we do not control warranty coverage for affected parties, some parties may incur costs higher than estimated here. Based on these figures, we estimate the cost of the proposed AD on U.S. operators to be $276,408, or $2,094 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0615; Directorate Identifier 2009-NM-043-AD.

Comments Due Date

(a) We must receive comments by August 17, 2009.

Affected ADs

(b) None.

Applicability

(c) This AD applies to the airplanes identified in paragraphs (c)(1) and (c)(2) of the AD, certificated in any category, having IPECO part number (P/N) 3A218-000X-01-1 pilot or co-pilot mechanical seats installed.

(1) Airbus Model A310-203, A310-221, and A310-222 airplanes, all serial numbers.

(2) Airbus Model A300 F4-605R and A300 F4-622R airplanes, all serial numbers.

Subject

(d) Air Transport Association (ATA) of America Code 25: Equipment/Furnishings.

Reason

(e) The mandatory continuing airworthiness information (MCAI) states:

“An A300-600 operator reported two events of IPECO pilot seat moved in the aft position, one during take-off roll and one during climb out. The investigation of these events showed that a broken/missing spring contributed to the seat not being correctly locked.

“An unwanted movement of pilot or co-pilot seat in the aft direction is considered as potentially dangerous, especially during the take-off phase when the speed of the aeroplane is greater than 100 knots and until landing gear retraction.

“To prevent further incidents of inadvertent flight crew seat aft movement, this AD requires repetitive inspections of the affected seat springs and replacement of missing or broken parts. In addition, this AD requires replacement of the affected seats with modified P/N 3A218-000X-01-2 seats. Installation of both pilot and co-pilot seats P/N 3A218-000X-01-2 on an aeroplane constitutes terminating action for the repetitive inspection requirements of this AD for that aeroplane.”

The unsafe condition is potential loss of control of the airplane during take-off and landing.

Actions and Compliance

(f) Unless already done, do the following actions.

(1) Within 90 days after the effective date of this AD, and thereafter at intervals not to exceed 30 days, do a detailed visual inspection of the two springs of the pilot seat and co-pilot seat locking device, in accordance with Airbus Mandatory Service Bulletin A310-25A2199 or A300-25A6210, both dated July 9, 2008, as applicable.

(i) If only one spring is missing or found damaged during any inspection required by paragraph (f)(1) of this AD, within 10 days after the inspection or before further flight, whichever occurs later, replace the spring with a serviceable part, in accordance with Airbus Mandatory Service Bulletin A310-25A2199 or A300-25A6210, both dated July 9, 2008, as applicable. Before an airplane may be dispatched with one spring missing or damaged, the instructions contained in Airbus A310 Operations Engineering Bulletin 160/2, dated October 2008; or A300-600 Operations Engineering Bulletin 121/1, dated May 2008; as applicable; must be accomplished by the flightcrew.

(ii) If two springs are missing or found damaged during any inspection required by paragraph (f)(1) of this AD, before further flight, replace the springs in accordance with Airbus Mandatory Service Bulletin A310-25A2199 or A300-25A6210, both dated July 9, 2008, as applicable.

(2) Replacing parts in accordance with Airbus Mandatory Service Bulletin A310-25A2199 or A300-25A6210, both dated July 9, 2008, as applicable, is not a terminating action for the repetitive inspections required in paragraph (f)(1) of this AD.

(3) As of the effective date of this AD, do not install an IPECO pilot or co-pilot mechanical seat P/N 3A218-000X-01-1 on any airplane, unless the seat has been inspected and modified, as applicable in accordance with Airbus Mandatory Service Bulletin A310-25A2199 or A300-25A6210, both dated July 9, 2008, as applicable.

(4) Within 6 months after the effective date of this AD, modify the airplane by replacing the pilot and co-pilot mechanical seats P/N 3A218-000X-01-1 with P/N 3A218-000X-01-2 seats, in accordance with Airbus Mandatory Service Bulletin A310-25-2202 or A300-25-6214, both dated February 3, 2009, as applicable.

(5) Installing both pilot and co-pilot seats P/N 3A218-000X-01-2 in accordance with Airbus Mandatory Service Bulletin A310-25-2202 or A300-25-6214, both dated February 3, 2009, as applicable, on any airplane is a terminating action for the repetitive inspections required by paragraph (f)(1) of this AD for that airplane.

(6) As of 6 months after the effective date of this AD, do not install an IPECO pilot or co-pilot mechanical seat P/N 3A218-000X-01-1 on any airplane.

(7) Although Airbus Mandatory Service Bulletins A310-25A2199 and A300-25A6210, both dated July 9, 2008, specify to submit certain information to the manufacturer, this AD does not include that requirement.

FAA AD Differences

Note 1: This AD differs from the MCAI and/or service information as follows: Although the MCAI and service information request to submit reporting information to Airbus, paragraph (f)(7) of this AD specifies that such submittal is not required.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this letter.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency Airworthiness Directive 2009-0045, dated February 27, 2009, and the service information listed in Table 1 of this AD for related information.

Table 1—Service Information
Airbus service information | Date
A300-600 Operations Engineering Bulletin 121/1 | May 2008.
A310 Operations Engineering Bulletin 160/2 | October 2008.
Mandatory Service Bulletin A300-25-6214 | February 3, 2009.
Mandatory Service Bulletin A300-25A6210 | July 9, 2008.
Mandatory Service Bulletin A310-25-2202 | February 3, 2009.
Mandatory Service Bulletin A310-25A2199 | July 9, 2008.

Issued in Renton, Washington, on July 6, 2009.
Ali Bahrami,
Manager, Transport Airplane Directorate, Aircraft Certification Service.

[FR Doc. E9-16939 Filed 7-15-09; 8:45 am]

BILLING CODE 4910-13-P